NATIONAL AERONAUTICS AND SPACE ADMINISTRATION

[Notice 12-098]

Notice of Information Collection

AGENCY: National Aeronautics and Space Administration (NASA).

ACTION: Notice of information collection.

SUMMARY: The National Aeronautics and Space Administration, as part of under parental/adult supervision its continuing effort to reduce paperwork and respondent burden, invites the general public and other Federal agencies to take this opportunity to comment on proposed and/or continuing information collections, as required by the Paperwork Reduction Act of 1995 (Pub. L. 104-13, 44 U.S.C. 3506(c)(2)(A)).

DATES: All comments should be submitted within 60 calendar days from the date of this publication.

ADDRESSES: All comments should be addressed to Ms. Frances Teel, JF000, National Aeronautics and Space Administration, Washington, DC 20546-0001.

FOR FURTHER INFORMATION CONTACT: Requests for additional information or copies of the information collection instrument(s) and instructions should be directed to Frances Teel, NASA Clearance Officer, NASA Headquarters, 300 E Street SW., JF0000, Washington, DC 20546, Frances.C.Teel@nasa.gov.

SUPPLEMENTARY INFORMATION:

I. Abstract

In accordance with Executive Order 13506 establishing the White House Council on Women and Girls, the Women@NASA Program was created to provide mentoring opportunities in science, technology, engineering, and math (STEM) disciplines for female students. To support the White House Educate To Innovate campaign, the Women@NASA Program was expanded to offer an equivalent program for young males called NASA Building Outstanding Young Scientists (BOYS). Both programs are designed to engage underrepresented rising 5th-8th grade students in a one-on-one virtual mentoring experience, under parental/adult supervision, one hour per week for a five-week period. Participants will be selected from a diverse set of geographical locations across the USA.

This clearance request pertains to the collection of information associated with the administration of electronic application forms, parental consent forms, and pre and post parent/student surveys. Surveys are designed to gauge participant interest in STEM subjects before and after the virtual mentoring experience, measure the program impact, access the effectiveness of the virtual mentoring approach and identify opportunities for improvement.

II. Method of Collection

Electronic.

III. Data

Title: NASA Girls and Boys Virtual Mentoring Program.

OMB Number: 2700-XXXX.

Type of review: New Information Collection.

Affected Public: Individuals or households.

Estimated Number of Respondents: 4,800.

Estimated Time per Response: Variable.

Estimated Total Annual Burden Hours: 2,600.

Estimated Total Annual Cost: $170,000.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

Frances Teel,
NASA PRA Clearance Officer.

[FR Doc. 2012-28019 Filed 11-16-12; 8:45 am]

BILLING CODE 7510-13-P